DEPARTMENT OF ENERGY

Federal Energy Regulatory Commission

Combined Notice of Filings #1

Take notice that the Commission received the following electric corporate filings:

Docket Numbers: EC22-63-000.

Applicants: Alliance Energy Group LLC.

Description: Amendment to May 9, 2022, Application for Authorization Under Section 203 of the Federal Power Act of Greeley Energy Facility, LLC.

Filed Date: 9/15/22.

Accession Number: 20220915-5314.

Comment Date: 5 p.m. ET 10/6/22.

Docket Numbers: EC22-122-000.

Applicants: BP Energy Retail LLC, EDF Energy Services, LLC, EDF Industrial Power Services (CA) LLC.

Description: Joint Application for Authorization Under Section 203 of the Federal Power Act of BP Energy Retail LLC, et al.

Filed Date: 9/21/22.

Accession Number: 20220921-5083.

Comment Date: 5 p.m. ET 10/12/22.

Take notice that the Commission received the following electric rate filings:

Docket Numbers: ER17-2013-001.

Applicants: Collegiate Clean Energy, LLC.

Description: Compliance filing: Collegiate MBR Change in Category to be effective 9/22/2022.

Filed Date: 9/21/22.

Accession Number: 20220921-5087.

Comment Date: 5 p.m. ET 10/12/22.

Docket Numbers: ER17-2014-001.

Applicants: Ingenco Wholesale Power, L.L.C.

Description: Compliance filing: Ingenco MBR Change in Category to be effective 9/22/2022.

Filed Date: 9/21/22.

Accession Number: 20220921-5088.

Comment Date: 5 p.m. ET 10/12/22.

Docket Numbers: ER20-2197-002.

Applicants: Atlantic City Electric Company, PJM Interconnection, L.L.C.

Description: Compliance filing: Atlantic City Electric Company submits tariff filing per 35: ACE and Delmarva Compliance Filing in ER20-2197 & ER20-2198 (Consolidated) to be effective 9/1/2020.

Filed Date: 9/21/22.

Accession Number: 20220921-5095.

Comment Date: 5 p.m. ET 10/12/22.

Docket Numbers: ER21-385-003.

Applicants: Upper Missouri G. & T. Electric Cooperative, Inc.

Description: Compliance filing: Compliance Filing (ER21-385) to be effective 7/1/2022.

Filed Date: 9/21/22.

Accession Number: 20220921-5086.

Comment Date: 5 p.m. ET 10/12/22.

Docket Numbers: ER22-2125-000; EL21-9-000.

Applicants: Duke Energy Progress, LLC.

Description: ALJ Settlement: DEP-NCEMC Offer of Settlement and Settlement Agreement to be effectiveN/A.

Filed Date: 6/16/22.

Accession Number: 20220616-5061.

Comment Date: 5 p.m. ET 10/3/22.

Docket Numbers: ER22-2616-001.

Applicants: Southern California Edison Company.

Description: Tariff Amendment: Errata to Add Clean Tariff to eTariff Record, re Desert Sunlight 2nd Amend to be effective 10/5/2022.

Filed Date: 9/21/22.

Accession Number: 20220921-5034.

Comment Date: 5 p.m. ET 10/12/22.

Docket Numbers: ER22-2885-000.

Applicants: 1000 Mile Solar, LLC.

Description: Request for Limited Waiver, et al. of 1000 Mile Solar, LLC.

Filed Date: 9/19/22.

Accession Number: 20220919-5261.

Comment Date: 5 p.m. ET 10/4/22.

Docket Numbers: ER22-2897-000.

Applicants: Pacific Gas and Electric Company.

Description: § 205(d) Rate Filing: CCSF Revisions to 2-19-2020 Filing (SA 275) to be effective 11/21/2022.

Filed Date: 9/21/22.

Accession Number: 20220921-5031.

Comment Date: 5 p.m. ET 10/12/22.

Docket Numbers: ER22-2898-000.

Applicants: Huck Finn Solar, LLC.

Description: Baseline eTariff Filing: Initial Market-Based Rate Petition of Huck Finn Solar to be effective 11/21/2022.

Filed Date: 9/21/22.

Accession Number: 20220921-5072.

Comment Date: 5 p.m. ET 10/12/22.

Docket Numbers: ER22-2899-000.

Applicants: Arizona Public Service Company.

Description: § 205(d) Rate Filing: Service Agreement No. 402, EP&C between APS and DCR Transmission to be effective 8/22/2022.

Filed Date: 9/21/22.

Accession Number: 20220921-5085.

Comment Date: 5 p.m. ET 10/12/22.

Docket Numbers: ER22-2900-000.

Applicants: Arizona Public Service Company.

Description: § 205(d) Rate Filing: Rate Schedule No. 309, Morgan-Pinnacle Peak Interconnection Agreement to be effective 11/21/2022.

Filed Date: 9/21/22.

Accession Number: 20220921-5092.

Comment Date: 5 p.m. ET 10/12/22.

Take notice that the Commission received the following qualifying facility filings:

Docket Numbers: QF22-442-000.

Applicants: Turnbull Hydro LLC.

Description: Refund Report of Turnbull Hydro LLC [Lower Turnbull].

Filed Date: 9/20/22.

Accession Number: 20220920-5132.

Comment Date: 5 p.m. ET 10/11/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2022.
Debbie-Anne A. Reese,
Deputy Secretary.

[FR Doc. 2022-20872 Filed 9-26-22; 8:45 am]

BILLING CODE 6717-01-P